DEPARTMENT OF AGRICULTURE

Forest Service

Office of the Secretary

Pacific Northwest National Scenic Trail Advisory Council

AGENCY: Forest Service, USDA.

ACTION: Call for nominations for the Pacific Northwest National Scenic Trail Advisory Council.

SUMMARY: The United States Department of Agriculture (USDA) is seeking nominations for the Pacific Northwest National Scenic Trail Advisory Council (Council) pursuant to Section 5(d) of the National Trails System Act (NTSA), as amended. Additional information on the Council can be found by visiting the Forest Service's Pacific Northwest National Scenic Trail website at https://www.fs.usda.gov/pnt.

DATES: Nominations must be received by July 31, 2020. The timeframe may be extended if officials do not receive applications for vacancies. Nominations must contain a completed application packet that includes the nominee's completed form AD-755 (Advisory Committee or Research and Promotion Background Information), résumé, cover letter identifying which organization and/or interest group(s) they would represent and how they are qualified to represent the group(s), and, if applying to represent an organization, a letter of endorsement from the organization. The package must be sent to the address below.

ADDRESSES: Interested persons may submit nominations packets by U.S. Mail or express delivery to the Attention: Becky Blanchard, PNT Administrator, USDA Forest Service Pacific Northwest Region, 1220 Southwest Third Avenue, Suite 1700, Portland, Oregon 97204-2825.

FOR FURTHER INFORMATION CONTACT: Becky Blanchard, Designated Federal Officer, by phone at 503-808-2449; or by email at SM.fs.pnnstcouncil@usda.gov.

Individuals who use telecommunications devices or the deaf (TDD) may call the Federal Information Relay Service (FIRS) at 1-800-877-8339 between 8:00 a.m. an 8:00 p.m., Eastern Standard Time, Monday through Friday.

SUPPLEMENTARY INFORMATION:

Background

In accordance with the NTSA and the Federal Advisory Committee Act (FACA), as amended (5 U.S.C. App.2), the Secretary of Agriculture has renewed the Pacific Northwest National Scenic Trail Advisory Council, effective March 10, 2020, and is seeking nominations for the Council. The Council is a statutory advisory council. The Council will operate under the provisions of FACA and will report to the Secretary of Agriculture through the Chief of the Forest Service.

The purpose of the Council is to make recommendations on matters relating to the Pacific Northwest National Scenic Trail in accordance with Section 5(d) of the NTSA, which states,

“The Secretary charged with the administration of each respective trail shall, within one year of the date of the addition of any national scenic or national historic trail to the system, . . . . . establish an advisory council for each such trail, each of which councils shall expire ten years from the date of its establishment, . . . . . . The appropriate Secretary shall consult with such council from time to time with respect to matters relating to the trail, including the selection of rights-of-way, standards for the erection and maintenance of markers along the trail, and the administration of the trail.”

Council Membership

The Council will be comprised of approximately of 25 and no more than 35 members. The members appointed to the Council will provide balanced and broad representation within each of the following interests:

(1) The head of each Federal department or independent agency administering lands through which the trail route passes, or their designee.

(2) A member appointed to represent each State through which the trail passes, and such appointments shall be made from recommendations of the Governors of such States.

(3) One or more members appointed to represent private organizations, including corporate and individual landowners and land users which, in the opinion of the Secretary, have an established and recognized interest in the trail. These members may represent social, environmental, or economic organizations (such as nationally or regionally recognized trails organizations, nationally or regionally recognized environmental organizations, nationally or regionally recognized wildlife organizations) and interests (hiking, equestrian, mountain biking, archaeological and historical, the timber industry, tourism and/or commercial outfitters, county governments and/or gateway communities, environmental education, youth engagement and employment); and/or private landowners.

(4) One or more members appointed to represent tribal interests.

Federal government members will serve as Regular Government Employees, appointed to provide the perspective of their agency or program. Non-federal members will serve as Representative members, appointed to provide the perspectives of a particular organization or interest. No individual who is currently registered as a Federal lobbyist is eligible to serve as a member of the Council.

Representative (non-federal) members will serve without compensation but may be reimbursed for travel expenses while performing duties on behalf of the Council, subject to approval by the Designated Federal Officer (DFO). The Council will meet at least once annually or as often as necessary and at such times as designated by the DFO.

Nominations and Application Information

The appointment of members to the Council will be made by the Secretary of Agriculture. Any individual or organization may nominate one or more qualified and interested persons to represent the interest areas listed above. Individuals may also nominate themselves. To be considered for membership, nominees must submit:

(1) Complete form AD-755;

(2) Résumé focused on qualifications, experiences, and skills relevant to the Council;

(3) Cover letter identifying which organization and/or interest group(s) they would represent and how they are qualified to represent the group(s), their rationale for serving on the Council and what they can contribute, and their past experience working successfully as part of a collaborative group; and

(4) If applying to represent an organization, a letter of endorsement from the organization.

Letters of recommendations may also be included as part of the nomination package but are not required. The form AD-755 and additional application information can be found by visiting the following website: https://www.fs.usda.gov/pnt. They may also be obtained by contacting Becky Blanchard, Designated Federal Officer, USDA Forest Service Pacific Northwest Region, 1220 Southwest Third Avenue, Suite 1700, Portland, Oregon 97204-2825; by phone at 503-808-2449; or by email at SM.fs.pnnstcouncil@usda.gov. Nominations and completed applications for the Council should be sent to the DFO at the mailing address or email address above.

All nominations will be vetted by USDA. The Secretary of Agriculture will appoint members to the Council from the list of qualified applicants.

Equal opportunity practices in accordance with USDA policies shall be followed in all appointments to the Council. To ensure that the recommendations of the Council have considered the needs of the diverse groups served by USDA, membership will, to the extent practicable, include individuals with demonstrated ability to represent all racial and ethnic groups, women and men, and persons with disabilities.

Dated: May 26, 2020.
Cikena Reid,
USDA Committee Management Officer.

[FR Doc. 2020-11677 Filed 5-29-20; 8:45 am]

BILLING CODE 3411-15-P